DEPARTMENT OF THE INTERIOR

National Park Service

[NPS-WASO-NRNHL-DTS#-35969; PPWOCRADI0, PCU00RP14.R50000]

National Register of Historic Places; Notification of Pending Nominations and Related Actions

AGENCY: National Park Service, Interior.

ACTION: Notice.

SUMMARY: The National Park Service is soliciting electronic comments on the significance of properties nominated before May 27, 2023, for listing or related actions in the National Register of Historic Places.

DATES: Comments should be submitted electronically by June 26, 2023.

ADDRESSES: Comments are encouraged to be submitted electronically to National_Register_Submissions@nps.gov with the subject line “Public Comment on <property or proposed district name, (County) State>.” If you have no access to email, you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before May 27, 2023. Pursuant to section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers

Key: State, County, Property Name, Multiple Name (if applicable), Address/Boundary, City, Vicinity, Reference Number.

ALABAMA

Macon County

St. Paul Baptist Church and Armstrong School, (U.S. Public Health Service Syphilis Study, Macon County, Alabama MPS), 14650 Cty. Rd. 2, Tuskegee vicinity, MP100009106

Mobile County

Automobile Alley Historic District (Boundary Increase), 752-54, 756, 762 St. Louis St., Mobile, BC100009107

MARYLAND

Baltimore County

Grey Rock Mansion, 400 Grey Rock Road (also known as 400 Clifton Court), Pikesville, SG100009110

MISSOURI

Cape Girardeau County

First Baptist Church, 200 Broadway St., Cape Girardeau, SG100009100

Linn County

Uptown Theatre, 104 North Main St. U.S.A. (North Kansas Ave.), Marceline, SG100009101

St. Louis Independent City

Famous-Barr Warehouse, 3728 Market St., St. Louis, SG100009099

MONTANA

Golden Valley County

Lavina School Historic District, 214 1st St. East, Lavina, SG100009087

NEBRASKA

Lancaster County

Speidel Barn, 7800 South 40th St., Lincoln, SG100009090

NEW YORK

Ontario County

Fairview Cemetery, North side of Mount Pleasant St. west of North Main St., Naples, SG100009097

OHIO

Cuyahoga County

Empire Junior High School, 9113 Parmelee Ave., Cleveland, SG100009088

TENNESSEE

Cannon County

Meltons Bank, The, 229 Gassaway Main St., Liberty vicinity, SG100009095

Dyer County

Bruce High School, 801 Vernon St., Dyersburg, SG100009096

Maury County

Haynes Haven Stock Farm, US 31/Nashville Hwy. between Northfield and Denning Lns., Spring Hill, SG100009094

WASHINGTON

Douglas County

45DO1238, (Spiritually Significant Rock Features of the Southern Columbia Plateau and Okanogan Highlands MPS), Address Restricted, Palisades vicinity, MP100009085

WISCONSIN

Grant County

Rock School and Hanmer Robbins School Complex, 405 East Main St., Platteville, SG100009102

Sheboygan County

ADVANCE (schooner) Shipwreck, (Great Lakes Shipwreck Sites of Wisconsin MPS), 9.5 miles south of the Sheboygan Harbor entrance, in Lake Michigan, Holland vicinity, MP100009104

A request for removal has been made for the following resources:

NEBRASKA

Colfax County

Our Lady of Perpetual Help Catholic Church & Cemetery, Address Restricted, Schuyler vicinity, OT82000600

OKLAHOMA

Oklahoma County

Goodholm House, 3101 West Gen. Pershing Blvd., Oklahoma City, OT83002099

Additional documentation has been received for the following resources:

KANSAS

Douglas County

University of Kansas East Historic District (Additional Documentation), Roughly bounded by Oread and Sunnyside Aves., Jayhawk Blvd., Lilac Ln., Pearson Pl., Louisiana and West 13th Sts., Lawrence, AD13001038

MARYLAND

Baltimore Independent City

Market Center (Additional Documentation), 24 blks surrounding the jct. of Howard and Lexington Sts., Baltimore, AD00000040

Old West Baltimore Historic District (Additional Documentation), Roughly bounded by North Ave., Dolphin St., Franklin St. and Fulton Ave., Baltimore, AD04001374

NEW YORK

Nassau County

Grace and Thomaston Buildings (Additional Documentation), 11 Middle Neck Rd. and 8 Bond St., Great Neck Plaza, AD78001865

UTAH

Garfield County

Hole-in-the-Rock Trail (Additional Documentation), From the beginning of BLM Federal Land just south of Escalante, Utah, to the end of BLM Federal Land just west of Bluff, Utah, Escalante vicinity, AD82004792

WISCONSIN

Dane County

Spooner-Haight Farmstead (Additional Documentation), 2733 Cty. Rd. MM, Fitchburg, AD93001162

Authority: Section 60.13 of 36 CFR part 60.

Dated: June 1, 2023.
Sherry A. Frear,
Chief, National Register of Historic Places/National Historic Landmarks Program.

[FR Doc. 2023-12347 Filed 6-8-23; 8:45 am]

BILLING CODE 4312-52-P